DEPARTMENT OF THE INTERIOR

Bureau of Land Management

[LLNVB01000.L58740000.EU0000.XFL061F0000; N-82413; 9-08807; TAS:14X5260]

Direct Sale of Public Land in Lander County, NV

AGENCY: Bureau of Land Management, Interior.

ACTION: Notice of Realty Action.

SUMMARY: The Bureau of Land Management (BLM) proposes to offer two parcels of public land totaling about 2.65 acres by direct, non-competitive sale to adjacent property owners. The sale will be subject to the applicable provisions of Sections 203 and 209 of the Federal Land Policy and Management Act of 1976 (FLPMA), 43 U.S.C. 1713 and 1719, respectively, and BLM land sale and mineral conveyance regulations at 43 CFR 2710 and 2720.

DATES: Interested parties may submit written comments regarding the proposed sale of these public lands until July 13, 2009. The sale will not be before sixty days after the publication of this notice in the Federal Register.

ADDRESSES: Mail written comments to BLM Field Manager, Mount Lewis Field Office, Battle Mountain District, 50 Bastain Road, Battle Mountain, NV 89820.

FOR FURTHER INFORMATION CONTACT: Chuck Lane at 775-635-6148.

SUPPLEMENTARY INFORMATION: The sale parcels are in the south central part of Section 19 on the southern slope of Pony Soldier Canyon adjacent to the town of Austin, Nevada and are legally described as:

Mount Diablo Meridian, Nevada

T. 19 N., R. 44 E.,

Sec. 19, lots 28 and 29.

Lot 28 contains 1.82 acres more or less and Lot 29 contains 0.83 acres more or less for a total of 2.65, more or less.

Lot 28 is proposed for sale to Charles Henrickson and Lynn Hendrickson, of Austin, Nevada for the Fair Market Value (FMV) of $7,000. Lot 29 is proposed for sale to Aldeen Penola and Susan Penola, of Austin, Nevada for the FMV of $5,000. An approved appraisal report has been prepared by a state certified appraiser for the purposes of establishing these FMVs. Public land cannot be sold for less than its FMV.

The public land is not required for any federal purpose. This sale is in conformance with the 1986 BLM Shoshone-Eureka Resource Management Plan (RMP), approved on February 26, 1986. The parcels meet the disposal qualification of Section 205 of the Federal Land Transaction Facilitation Act of July 25, 2000 (FLTFA) (43 U.S.C. 2304). The proceeds from the sale of the land will be deposited into the Federal Land Disposal Account for Nevada pursuant to FLTFA.

The land meets the criteria for sale under 43 CFR 2710.0-3(a)(3) where the sale of a parcel because of its location or other characteristics is difficult and uneconomic to manage as part of the public lands and is not suitable for management by another Federal department or agency. The parcels will be offered through direct sale procedures pursuant to 43 CFR 2711.3-3. The sale of these lands also meet the criteria under 43 CFR 2711.3-3(a)(5) which allows direct sales in the case of a need to resolve inadvertent unauthorized use or occupancy of the lands. The residences of the two parties and some outlying structures have inadvertently been constructed on public land. The direct sale would not change the status quo in that no other land uses are expected for these lands.

The BLM prepared an environmental assessment (EA) and provided a 30-day public comment period. No comments were received and a finding of no significant impacts (FONSI) was signed on July 9, 2008. The EA, FONSI, Environmental Site Assessment, Mineral Potential Report, and map are available for review at the Battle Mountain District Office.

Terms and Conditions: Conveyance of the available mineral interests will occur simultaneously with the sale of the land. The mineral interests being offered for sale have no known mineral value in accordance with Section 209 of FLPMA. Acceptance of a sale offer will constitute an application for conveyance of those mineral interests. In conjunction with the final payment, the purchaser will be required to pay a $50 non-refundable filing fee for processing the conveyance of the mineral interests. Payment must be submitted in the form of a certified check, postal money order, bank draft, or cashier's check made payable in U.S. dollars to the “Department of the Interior—Bureau of Land Management.”

The following numbered terms and conditions will appear in the conveyance document for this parcel:

1. Oil, gas, and geothermal resources on the land are reserved to the United States; permittees, licensees, and lessees retain the right to prospect for and remove those minerals retained by the United States under applicable law and any regulations that the Secretary of the Interior may prescribe, including all necessary access and exit rights;

2. A right-of-way is reserved for ditches and canals constructed by authority of the United States under the Act of August 30, 1890 (43 U.S.C. 945);

The parcels are subject to:

1. Valid existing rights;

2. The purchaser/patentee, by accepting patent, agrees to indemnify, defend, and hold the United States harmless from any costs, damages, claims, causes of action, penalties, fines, liabilities, and judgments of any kind arising from the past, present, or future acts or omissions of the patentee, its employees, agents, contractors, or lessees, or a third part arising out of, or in connection with, the patentee's use and/or occupancy of the patented real property. This indemnification and hold harmless agreement includes, but is not limited to, acts and omissions of the patentee, its employees, agents, contractors, or lessees, or third party arising out of or in connection with the use and/or occupancy of the patented real property resulting in: (1) Violations of federal, state, and local laws and regulations that are now, or in the future become, applicable to the real property; (2) Judgments, claims, or demands of any kind assessed against the United States; (3) Costs, expenses, or damages of any kind incurred by the United States; (4) Releases or threatened releases of solid or hazardous waste(s) and/or hazardous substances(s), as defined by federal or state environmental laws, off, on, into, or under land, property, and other interests of the United States; (5) Other activities by which solids or hazardous substances or wastes, as defined by federal and state environmental laws are generated, released, stored, used, or otherwise disposed of on the patented real property, and any cleanup response, remedial action, or other actions related in any manner to said solid or hazardous substances or wastes; or (6) Natural resource damages as defined by Federal and state law. This covenant shall be construed as running with the patented real property and may be enforced by the United States in a court of competent jurisdiction.

3. Pursuant to the requirements established by section 120(h) of the Comprehensive Environmental Response, Compensation and Liability Act (CERCLA), (42 U.S.C. 9620(h)), as amended by the Superfund Amendments and Reauthorization Act of 1988, (100 Stat. 1670), notice is hereby given that the described lands have been examined and no evidence was found to indicate that any hazardous substances have been stored for one year or more, nor had any hazardous substances been disposed of or released on the subject property.

Encumbrances of record, appearing in the BLM public files for the parcel proposed for sale, are available during normal business hours at the Battle Mountain District Office.

No warranty of any kind, expressed or implied, is given by the United States as to the title, physical condition or potential uses of the parcel of land proposed for sale, and the conveyance of any such parcel will not be on a contingency basis. It is the buyer's responsibility to be aware of all applicable federal, state, or local government laws, regulations, or policies that may affect the subject lands or its future uses. It is also the buyer's responsibility to be aware of existing or prospective uses of nearby properties. Any land lacking access from a public road and highway will be conveyed as such, and future access acquisition will be the responsibility of the buyer.

Only written comments submitted by postal service or overnight mail will be considered properly filed. Electronic mail, facsimile or telephone comments will not be considered as properly filed.

Before including your address, phone number, e-mail address, or other personal identifying information in your comment—you should be aware that your entire comment, including your personal identifying information—may be made publicly available at any time. While you can ask us in your comment to withhold your personal identifying information from public review, we cannot guarantee that we will be able to do so. Comments including names and street address of respondents will be available for public review at the Battle Mountain District Office during regular business hours, except holidays.

Any adverse comments regarding the proposed sale will be reviewed by the BLM Nevada State Director, who may sustain, vacate, or modify this realty action. In the absence of any adverse comments, this realty action will become the final determination of the Department of the Interior.

(Authority: 43 CFR 2711)

Dated: May 19, 2009.
Douglas W. Furtado,
Field Manager, Mount Lewis Field Office.

[FR Doc. E9-12268 Filed 5-26-09; 8:45 am]

BILLING CODE 4310-HC-P